DEPARTMENT OF TRANSPORTATION

Federal Aviation Administration

[Docket No. FAA-2024-2167]

Agency Information Collection Activities: Requests for Comments; Clearance of a Renewed Approval of Information Collection: Formal Complaints Collection

AGENCY: Federal Aviation Administration (FAA), DOT.

ACTION: Notice and request for comments.

SUMMARY: In accordance with the Paperwork Reduction Act of 1995, FAA invites public comments about our intention to request Office of Management and Budget (OMB) approval to renew an information collection. The collection involves the filing of a complaint with the FAA alleging a violation of any requirement, rule, regulation, or order issued under certain statutes within the jurisdiction of the FAA. The FAA will use the information collected to determine if the alleged violation warrants investigation or action.

DATES: Written comments should be submitted by December 6, 2024.

ADDRESSES: Please send written comments:

By Electronic Docket: www.regulations.gov (Enter docket number into search field).

By mail: Nicholas (Cole) R. Milliard, Aviation Litigation Division, AGC-300, 800 Independence Ave. SW, Washington, DC 20591.

By fax: (202) 267-5106.

FOR FURTHER INFORMATION CONTACT: Nicholas (Cole) R. Milliard by email at: cole.milliard@faa.gov; phone: (202) 267-3452.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0795.

Title: Formal Complaints Collection.

Form Numbers: N/A.

Type of Review: Renewal of an information collection.

Background: Under 14 CFR 13.5(b), a formal complaint must: (1) Be submitted to the FAA in writing; (2) be identified as a complaint seeking an appropriate order or other enforcement action; (3) identify the subjects of the complaint; (4) state the specific statute, rule, regulation, or order that each subject allegedly violated; (5) contain a concise but complete statement of the facts relied upon to substantiate each allegation; (6) include the name, address, telephone number, and email of the person filing the complaint; and (7) be signed by the person filing the complaint or an authorized representative. After the FAA confirms that the complaint meets these requirements and the limitations in 14 CFR 13.3(d) and 13.5(a), it sends a copy of the complaint to the subjects of the complaint and gives them an opportunity to submit a written answer. If a complaint does not meet these requirements, it is considered a report of violation under 14 CFR 13.2.

The FAA uses the information in the complaint and answer to determine if there are reasonable grounds for investigating the complaint. If the FAA determines there are reasonable grounds, the FAA proceeds with an investigation. If not, the FAA may dismiss the complaint and give the reason for dismissal in writing to both the person who filed the complaint and the subjects of the complaint.

Respondents: Formal complaints are typically submitted by an individual or organization. Almost all formal complaints are evenly split between three basic categories (complainant listed first): Individual vs. individual, individual vs. organization, and organization vs. organization.

Frequency: The FAA estimates this collection of information would result in about seven formal complaints per year based on FAA data.

Estimated Average Burden per Response: The estimated average burden on the public for each complaint and response under § 13.5 is eight hours. It would take an individual about four hours to write a formal complaint acceptable under § 13.5. The FAA estimates it would take the subject of the complaint about four hours to write an answer to the complaint.

The estimated average burden on the FAA for each complaint is eight hours. A complaint would take the FAA no more than four hours to review to confirm it meets the requirements as laid out in 14 CFR 13.5(b). The FAA would take an additional hour to send the complaint to the subjects of that complaint. The FAA would then take another estimated three hours to determine if an investigation would be necessary.

Estimated Total Annual Burden: The FAA estimates the total annual combined (public + FAA) annual burden and cost of the information requirements to be about 112 hours and $7,030.

For the public, the estimated total annual hourly burden would be 56 hours, and the estimated total annual cost burden would be about $2,506. For the FAA, the estimated total annual hourly burden would be 56 hours, and the estimated total annual cost burden would be about $4,524.

Issued in College Park, Georgia on October 2, 2024.
Taneesha D. Marshall,
Assistant Chief Counsel for Aviation Litigation, Aviation Litigation Division, AGC-300.

[FR Doc. 2024-23147 Filed 10-4-24; 8:45 am]

BILLING CODE 4910-13-P